DEPARTMENT OF TRANSPORTATION

Office of the Secretary

Notice of Order Adjusting the Standard Foreign Fare Level Index

AGENCY: Department of Transportation.

ACTION: Notice of Order Adjusting The Standard Foreign Fare Level Index (Docket OST-05-20332).

SUMMARY: The Department revises the Standard Foreign Fare Level (SFFL) to reflect the latest available fuel and non fuel cost changes experienced by carriers, as required by 40 U.S.C. 41509(e).

FOR FURTHER INFORMATION CONTACT: Mr. John Kiser or Ms. Diane Z. Rhodes, Pricing & Multilateral Affairs, Division (X-43, Room 6424), U.S. Department of Transportation, 400 Seventh Street, SW., Washington, DC 20590, 202 366-1065.

Dated: April 7, 2005.
Karan K. Bhatia,
Assistant Secretary for Aviation and International Affairs.

[FR Doc. 05-7369 Filed 4-12-05; 8:45 am]

BILLING CODE 4910-62-P